DEPARTMENT OF ENERGY

Federal Energy Regulatory Commission

Combined Notice of Filings #1

Take notice that the Commission received the following electric rate filings:

Docket Numbers: ER10-2331-071; ER10-2317-061; ER13-1351-043.

Applicants: J.P. Morgan Ventures Energy Corporation, BE CA LLC, Florida Power Development LLC.

Description: Notice of Non-Material Change in Status of the J.P. Morgan Sellers.

Filed Date: 6/4/18.

Accession Number: 20180604-5202.

Comments Due: 5 p.m. ET 6/25/18.

Docket Numbers: ER10-2739-021; ER10-1631-013; ER10-1854-013 ER10-1892-008; ER10-2678-014; ER10-2729-008 ER10-2744-014; ER11-3320-013; ER13-2316-011 ER14-1219-008; ER14-19-012; ER16-1652-009 ER16-1732-007; ER16-2405-007; ER16-2406-007 ER17-1946-006; ER17-989-006; ER17-990-006 ER17-991-006; ER17-992-006; ER17-993-006 ER18-95-003.

Applicants: LS Power Marketing, LLC, Armstrong Power, LLC, Aurora Generation, LLC, Bath County Energy, LLC, Buchanan Energy Services Company, LLC, Chambersburg Energy, LLC, Columbia Energy LLC, Doswell Limited Partnership, Gans Energy, LLC, Helix Ironwood, LLC, Hunlock Energy, LLC, LifeEnergy, LLC, LSP University Park, LLC, Riverside Generating Company, L.L.C., Rockford Power, LLC, Rockford Power II, LLC, Seneca Generation, LLC, Springdale Energy, LLC, Troy Energy, LLC, University Park Energy, LLC, West Deptford Energy, LLC, Buchanan Generation, LLC.

Description: Notification of Change in Status of the LS PJM MBR Sellers.

Filed Date: 6/4/18.

Accession Number: 20180604-5203.

Comments Due: 5 p.m. ET 6/25/18.

Docket Numbers: ER11-3050-003.

Applicants: FirstEnergy Corp.

Description: Notice of change in status of FirstEnergy Companies.

Filed Date: 6/4/18.

Accession Number: 20180604-5187.

Comments Due: 5 p.m. ET 6/25/18.

Docket Numbers: ER12-162-019 ; ER13-1266-016; ER11-2044-024; ER15-2211-013.

Applicants: Bishop Hill Energy II LLC, CalEnergy, LLC, MidAmerican Energy Company, MidAmerican Energy Services, LLC.

Description: Supplement to December 21, 2017 Central Region Triennial Market Power Analysis and Notice of Change in Status under Market-Based Rate Authority of Bishop Hill Energy II LLC, et al.

Filed Date: 6/4/18.

Accession Number: 20180604-5201.

Comments Due: 5 p.m. ET 6/25/18.

Docket Numbers: ER17-1392-001.

Applicants: El Cabo Wind LLC.

Description: Notice of Change in Status of El Cabo Wind LLC.

Filed Date: 6/4/18.

Accession Number: 20180604-5191.

Comments Due: 5 p.m. ET 6/25/18.

Docket Numbers: ER18-1565-001.

Applicants: PJM Interconnection, L.L.C.

Description: Tariff Amendment: Errata to correct metadata in ER18-1565-000 re: Cancellation of SA No. 3764 to be effective 6/4/2018.

Filed Date: 5/22/18.

Accession Number: 20180522-5230.

Comments Due: 5 p.m. ET 6/12/18.

Docket Numbers: ER18-1738-000

Applicants: Bath County Energy, LLC.

Description: Compliance filing: Notice of Succession for Reactive Service Rate Schedule to be effective 5/3/2018.

Filed Date: 6/4/18.

Accession Number: 20180604-5134.

Comments Due: 5 p.m. ET 6/25/18.

Docket Numbers: ER18-1739-000.

Applicants: Midcontinent Independent System Operator, Inc.

Description: § 205(d) Rate Filing: 2018-06-04_Filing by MISO TOs to revise Attachment O and ADIT Work Papers to be effective 1/1/2019.

Filed Date: 6/4/18.

Accession Number: 20180604-5153,

Comments Due: 5 p.m. ET 6/25/18.

Docket Numbers: ER18-1740-000.

Applicants: Portland General Electric Company.

Description: § 205(d) Rate Filing: BPA/PGE/PAC South of Allston Path Agreement to be effective 6/4/2018.

Filed Date: 6/4/18.

Accession Number: 20180604-5178.

Comments Due: 5 p.m. ET 6/25/18.

Docket Numbers: ER18-1741-000.

Applicants: Portland General Electric Company.

Description: Notice of Cancellation of Rate Schedule No. 15 of Portland General Electric Company.

Filed Date: 6/4/18.

Accession Number: 20180604-5195.

Comments Due: 5 p.m. ET 6/25/18.

Docket Numbers: ER18-1742-000.

Applicants: Southwest Power Pool, Inc.

Description: § 205(d) Rate Filing: 1166R31 Oklahoma Municipal Power Authority NITSA and NOA to be effective 6/1/2018.

Filed Date: 6/5/18.

Accession Number: 20180605-5039.

Comments Due: 5 p.m. ET 6/26/18.

Take notice that the Commission received the following public utility holding company filings:

Docket Numbers: PH18-9-000.

Applicants: LS Power Development, LLC.

Description: LS Power Development, LLC submits FERC 65-B Non-Material Change in Fact of Waiver Notification.

Filed Date: 6/4/18.

Accession Number: 20180604-5185.

Comments Due: 5 p.m. ET 6/25/18.

Take notice that the Commission received the following qualifying facility filings:

Docket Numbers: QF18-1459-000.

Applicants: Duke Energy Renewables Commercial, LLC.

Description: Form 556 of Duke Energy Renewables Commercial, LLC [Montgomery County PSHQ].

Filed Date: 5/31/18.

Accession Number: 20180531-5444.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2018.
Nathaniel J. Davis, Sr.,
Deputy Secretary.

[FR Doc. 2018-12463 Filed 6-8-18; 8:45 am]

BILLING CODE 6717-01-P